ENVIRONMENTAL PROTECTION AGENCY

[FRL-8844-01-R5]

Great Lakes Advisory Board Notice for Virtual Meeting

AGENCY: Environmental Protection Agency (EPA).

ACTION: Notice of public meeting for Great Lakes Advisory Board.

SUMMARY: Pursuant to the Federal Advisory Committee Act (FACA), the Environmental Protection Agency (EPA) provides notice of a public meeting for the Great Lakes Advisory Board (GLAB). Pre-registration is required.

DATES: This virtual public meeting will be held on August 30th, 2021 from 1:00 p.m. to 4:00 p.m. Central Daylight Time and August 31st from 9:00 a.m. to 12:00 p.m. Central Daylight Time. Members of the public seeking to view the meeting must register by 3:00 p.m. Central Daylight Time on August 23rd, 2021. Members of the public seeking to make comments relevant to issues discussed at the virtual meeting must register and indicate a request to make oral and/or written public comments in advance of the meeting. For information on how to register, please see [How do I participate in the meeting] below.

FOR FURTHER INFORMATION CONTACT: Edlynzia Barnes, Designated Federal Officer (DFO), at Barnes.Edlynzia@epa.gov or 312-886-6249.

SUPPLEMENTARY INFORMATION:

I. General Information

The GLAB is chartered in accordance with the Federal Advisory Committee Act (FACA) of 1972 (5 U.S.C., Appendix 2, as amended) and 41 CFR 102-3.50(d). The Advisory Board provides advice and recommendations on matters related to the Great Lakes Restoration Initiative. The Advisory Board also advises on domestic matters related to implementation of the Great Lakes Water Quality Agreement between the U.S. and Canada. The major objectives are to provide advice and recommendations on: Great Lakes protection and restoration activities; long-term goals, objectives, and priorities for Great Lakes protection and restoration; and other issues identified by the Great Lakes Interagency Task Force/Regional Working Group.

II. How do I participate in the remote public meeting?

A. Remote Meeting

This meeting will be conducted as a virtual meeting on August 30th, 2021 from 1:00 p.m. to 4:00 p.m. Central Daylight Time and August 31st from 9:00 a.m. to 12:00 p.m. Central Daylight Time. You must register by 3:00 p.m. Central Daylight Time on August 23rd, 2021 to receive information on how to participate. You may also submit written or oral comments for the committee by following the processes outlined below.

B. Registration

Individual registration is required for participation in this meeting. Information on registration for this meeting can be found at https://event.capconcorp.com/form/view.php?id=127543. When registering, please provide your name, email, organization, city, and state. Please also indicate whether you would like to provide oral and/or written comments during the meeting at the time of registration.

C. Procedures for Providing Public Comments

Oral Statements: In general, oral comments at this virtual conference will be limited to the Public Comments portion of the meeting agenda. Members of the public may provide oral comments limited to up to three minutes per individual or group and may submit further information as written comments. Persons interested in providing oral statements should register at https://event.capconcorp.com/form/view.php?id=127543 for the meeting and indicate your interest to provide public comments. Oral commenters will be provided an opportunity to speak in the order in which their request was received by the DFO and to the extent permitted by the number of comments and the scheduled length of the meeting. Persons not able to provide oral comments during the meeting will be given an opportunity to provide written comments after the meeting.

Written Statements: Persons interested in providing written statements pertaining to this committee meeting may do so by indicating at https://event.capconcorp.com/form/view.php?id=127543. Written comments will be accepted before, during, and after the public meeting and will be considered by the Great Lakes Advisory Board members.

D. Availability of Meeting Materials

The meeting agenda and other materials for the virtual conference will be posted on the GLAB website at www.glri.us/glab.

E. Accessibility

Persons with disabilities who wish to request reasonable accommodations to participate in this event may contact the DFO at Barnes.edlynzia@epa.gov or 312-886-6249 by 3:00 p.m. Central Daylight Time on August 23rd, 2021. All final meeting materials will be posted to the GLAB website in an accessible format following the meeting, as well as a written summary of this meeting.

Cheryl Newton,
Acting Regional Administrator, Great Lakes National Program Manager.

[FR Doc. 2021-17326 Filed 8-12-21; 8:45 am]

BILLING CODE 6560-50-P